DEPARTMENT OF COMMERCE

International Trade Administration

[A-403-801]

Fresh and Chilled Atlantic Salmon From Norway: Preliminary Results of the Full Sunset Review of Antidumping Duty Order

AGENCY: Import Administration, International Trade Administration, Department of Commerce.

SUMMARY: On February 2, 2005, the Department of Commerce (the Department) initiated a sunset review of the antidumping duty order on fresh and chilled Atlantic salmon from Norway (Salmon from Norway) (70 FR 5415) pursuant to section 751(c) of the Tariff Act of 1930, as amended (the Act). On the basis of substantive responses filed by domestic and respondent interested parties, the Department determined to conduct a full review. As a result of this review, the Department preliminarily finds that revocation of the antidumping duty order would likely lead to continuation or recurrence of dumping at the levels indicated in the Preliminary Results of Review section of this notice.

EFFECTIVE DATE: August 29, 2005.

FOR FURTHER INFORMATION CONTACT: Zev Primor, AC/CVD Operations, Office IV, Import Administration, International Trade Administration, U.S. Department of Commerce, 14th Street & Constitution Avenue, NW., Washington, DC , 20230; telephone: 202-482-4114.

SUPPLEMENTARY INFORMATION:

Scope of the Order

The product covered by this order is the species Atlantic salmon (Salmon Salar) marketed as specified herein; the order excludes all other species of salmon: Danube salmon, Chinook (also called “king” or “quinnat”), Coho (“silver”), Sockeye (“redfish” or “blueback”), Humpback (“pink”) and Chum (“dog”). Atlantic salmon is a whole or nearly-whole fish, typically (but not necessarily) marketed gutted, bled, and cleaned, with the head on. The subject merchandise is typically packed in fresh-water ice (“chilled”). Excluded from the subject merchandise are fillets, steaks and other cuts of Atlantic salmon. Also excluded are frozen, canned, smoked or otherwise processed Atlantic salmon. Atlantic salmon was classifiable under item number 110.2045 of the Tariff Schedules of the United States Annotated (“TSUSA”). Atlantic salmon is currently provided for under the Harmonized Tariff Schedules of the United States (“HTSUS”) subheadings 0302.12.0003 and 0302.12.0004.¹ The HTSUS subheadings are provided for convenience and customs purposes. The written description remains dispositive as to the scope of the product coverage.

¹ Prior to January 1, 1990, Atlantic salmon was provided for under item numbers 0302.0060.8 and 0302.12.0065.3 of HTSUS (56 FR 7678, February 25, 1991). In 1992, the HTSUS subheading for Atlantic salmon was revised. Specifically, the HTSUS subheading of 0302.12.00.02.9 was divided into two different subheadings: 0302.12.0003 (Farmed) and 0302.12.0004 (Not farmed).

There have been no scope rulings for the subject order. There was one changed circumstances determination in which the Department affirmed that Kinn Salmon A/S was the successor-in-interest to Skaarfish Group A/S. See Fresh and Chilled Atlantic Salmon From Norway; Final Results of Changed Circumstance Antidumping Duty Administrative Review, 64 FR 9979 (March 1, 1999).

Background

On February 2, 2005, the Department published its notice of initiation of the second sunset review of the antidumping duty order on Salmon from Norway, in accordance with section 751(c) of the Act. See Notice of Initiation of Five-Year (“Sunset”) Reviews, 70 FR 5415 (February 2, 2005). The Department received Notices of Intent to Participate on behalf of Heritage Salmon Company, Inc., and Atlantic Salmon of Maine (collectively, “petitioners”), within the applicable deadline specified in section 351.218(d)(1)(i) of the Department's regulations. Petitioners claimed interested party status pursuant to sections 771(9)(C) and (D) of the Act. The Department received a complete substantive response to the notice of initiation from petitioners within the 30-day deadline specified in the Department's regulations under section 351.218(d)(3)(i). The Department also received a complete substantive response from respondent interested parties, The Norwegian Seafood Federation (NSF) and The Norwegian Seafood Association (NSA) (collectively “respondents”), within the applicable deadline specified in section 351.218(d)(3)(i). On March 9, 2005, the Department received rebuttal comments from respondents. Additionally, on February 25, 2005 and March 9, 2005, petitioners filed comments challenging the standing of the respondents in this proceeding. On March 4, March 11 and March 16, 2005, respondents rebutted petitioners' comments pertaining to their standing and filed comments challenging petitioners' standing in this proceeding.

Section 351.218(e)(1)(ii)(A) of the Department's regulations provides that the Secretary normally will conclude that respondents have provided an adequate response to a notice of initiation where it receives complete substantive responses from respondent interested parties accounting on average for more than 50 percent, by volume, or value, if appropriate, of the total exports of the subject merchandise to the United States over the five calender years preceding the year of publication of the notice of initiation. On April 13, 2005, the Department determined that respondents have standing in the instant review and also that their filings constituted an adequate response to the notice of initiation. In accordance with section 351.218(e)(2)(i) of the Department's regulations, the Department determined to conduct a full sunset review of this antidumping duty order. See Memorandum from the Sunset Team to Ronald Lorentzen, Acting Director, Office of Policy. On April 25, 2005, all parties submitted comments pertaining to the Department's April 13, 2005, decision to grant respondents standing in this proceeding and to accept respondents' filings as adequate.

On May 13, 2005, the Department determined that the sunset review of the antidumping duty order on Salmon from Norway is extraordinarily complicated, and, therefore, we extended the time limit for completion of the final results of this review until not later than December 29, 2005, in accordance with section 751(c)(5)(B) of the Act. See Extension of Time Limits for Preliminary Results and Final Results of the Full Sunset Review of the Antidumping Duty Order on Fresh and Chilled Atlantic Salmon from Norway and the Final Results of the Expedited Sunset Review of the Countervailing Duty Order on Fresh and Chilled Atlantic Salmon from Norway, 70 FR 25537 (May 13, 2005).

Analysis of Comments Received

All issues raised in the case and rebuttal briefs by parties to this sunset review are addressed in the “Issues and Preliminary Decision Memorandum” (Preliminary Decision Memorandum) from Barbara E. Tillman, Acting Deputy Assistant Secretary for Import Administration, to Ronald K. Lorentzen, Acting Assistant Secretary for Import Administration, dated August 22, 2005, which is hereby adopted and incorporated by reference into this notice. The issues discussed in the attached Preliminary Decision Memorandum include the likelihood of continuation or recurrence of dumping and the magnitude of the margin likely to prevail were the order revoked. Parties can find a complete discussion of all issues raised in this review and the corresponding recommendations in this public memorandum, which is on file in the Central Records Unit, room B-099, of the main Commerce building.

In addition, a complete version of the Preliminary Decision Memorandum can be accessed directly on the Web at www.ita.doc.gov/import_admin/records/frn/ under the heading “Norway 2005.” The paper copy and electronic version of the Preliminary Decision Memorandum are identical in content.

Preliminary Results of Review

We preliminarily determine that revocation of the antidumping duty order on Salmon from Norway would be likely to lead to continuation or recurrence of dumping at the following weighted-average margins:

Manufacturer/Exporter | Margin (percent)
Salmonor A/S | 18.39
Sea Star International | 24.61
Skaarfish Mowi A/S | 15.65
Fremstad Group A/S | 21.51
Domstein and Co. | 31.81
Saga A/S | 26.55
Chr. Bjelland | 19.96
Hallvard Leroy A/S | 31.81
All Others | 23.80

This five-year (“sunset”) review and notice are in accordance with sections 751(c), 752, and 777(i)(1) of the Act.

This notice serves as the preliminary reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

Dated: August 22, 2005.
Ronald K. Lorentzen,
Acting Assistant Secretary for Import Administration.

[FR Doc. E5-4718 Filed 8-26-05; 8:45 am]

BILLING CODE 3510-DS-S